GENERAL SERVICES ADMINISTRATION

41 CFR Chapters 101, 102, 105, 300, 301, 302, and 304

48 CFR Chapter 5

Unified Agenda of Federal Regulatory and Deregulatory Actions

AGENCY: General Services Administration (GSA).

ACTION: Semiannual regulatory agenda.

SUMMARY: This agenda announces the proposed regulatory actions that GSA plans for the next 12 months and those that were completed since the fall 2020 edition. This agenda was developed under the guidelines of Executive Orders 12866 “Regulatory Planning and Review,” and Executive Order 13563 “Improving Regulation and Regulatory Review.” GSA's purpose in publishing this agenda is to allow interested persons an opportunity to participate in the rulemaking process. GSA also invites interested persons to recommend existing significant regulations for review to determine whether they should be modified or eliminated. Published proposed rules may be reviewed in their entirety at the Government's rulemaking website at http://www.regulations.gov.

Since the fall 2007 edition, the internet has been the basic means for disseminating the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda published on the internet. In addition, for fall editions of the Agenda, the entire Regulatory Plan will continue to be printed in the Federal Register, as in past years, including GSA's regulatory plan.

FOR FURTHER INFORMATION CONTACT: Lois Mandell, Division Director, Regulatory Secretariat Division, 1800 F Street NW, 2nd Floor, Washington, DC 20405-0001, 202-501-2735.

Dated: March 11, 2021.
Krystal J. Brumfield,
Associate Administrator, Office of Government-Wide Policy.

General Services Administration—Proposed Rule Stage
Sequence No. | Title | Regulation Identifier No.
210 | General Services Acquisition Regulation (GSAR); GSAR Case 2016-G511, Contract Requirements for GSA Information Systems | 3090-AJ84
211 | General Services Acquisition Regulation (GSAR); GSAR Case 2019-G503, Streamlining GSA Commercial Contract Clause Requirements | 3090-AK09
212 | General Services Acquisition Regulation (GSAR); GSAR Case 2020-G502, Increasing Order Level Competition for Federal Supply Schedules | 3090-AK15
213 | General Service Acquisition Regulation (GSAR); GSAR Case 2020-G503, Increasing Order Level Competition for Indefinite-Delivery, Indefinite-Quantity Contracts | 3090-AK16
214 | General Service Acquisition Regulation (GSAR); GSAR Case 2020-G504, Federal Supply Schedule Catalog Management | 3090-AK17
215 | General Service Acquisition Regulation (GSAR); GSAR Case 2020-G505, Clarify Commercial Products and Services Contract Terms and Conditions | 3090-AK18
216 | General Service Acquisition Regulation (GSAR); GSAR Case 2020-G509, Extending Federal Supply Schedule Orders Beyond the Contract Term | 3090-AK19
217 | General Service Acquisition Regulation (GSAR); GSAR Case 2020-G510, Federal Supply Schedule Economic Price Adjustment | 3090-AK20
218 | General Service Acquisition Regulation (GSAR); GSAR Case 2020-G511, Updated Guidance for Non-Federal Entities Access to Federal Supply Schedules | 3090-AK21
219 | General Service Acquisition Regulation (GSAR); GSAR Case 2020-G512, System for Award Management Representation for Leases | 3090-AK22
220 | General Service Acquisition Regulation (GSAR); GSAR Case 2020-G513, Lease Payment Procedures | 3090-AK23
221 | General Service Acquisition Regulation (GSAR); GSAR Case 2020-G534, Extension of Certain Telecommunication Prohibitions to Lease Acquisitions | 3090-AK29
222 | General Services Acquisition Regulation (GSAR); GSAR Case 2021-G505, Amending Prescriptions for Including FAR Provisions and Clauses in Lease Procurements | 3090-AK36
223 | General Services Acquisition Regulation (GSAR); GSAR Case 2021-G522, Contract Requirements for High-Security Leased Space | 3090-AK39

General Services Administration—Completed Actions
Sequence No. | Title | Regulation Identifier No.
224 | General Service Acquisition Regulation (GSAR); GSAR Case 2020-G517, Contracting Exemption for Regulated Utilities | 3090-AK24

GENERAL SERVICES ADMINISTRATION (GSA)

Proposed Rule Stage

Office of Acquisition Policy

210. General Services Acquisition Regulation (GSAR); GSAR Case 2016-G511, Contract Requirements for GSA Information Systems

Legal Authority: 40 U.S.C. 121(c)

Abstract: The General Services Administration (GSA) is proposing to amend the General Services Administration Acquisition Regulation (GSAR) to streamline and update requirements for contracts that involve GSA information systems. GSA's policies on cybersecurity and other information technology requirements have been previously issued and communicated by the Office of the Chief Information Officer through the GSA public website. By incorporating these requirements into the GSAR, the GSAR will provide centralized guidance to ensure consistent application across the organization. Integrating these requirements into the GSAR will also allow industry to provide public comments through the rulemaking process.

This rule will require contracting officers to incorporate applicable GSA cybersecurity requirements within the statement of work to ensure compliance with Federal cybersecurity requirements and implement best practices for preventing cyber incidents. Contract requirements for internal information systems, external contractor systems, cloud systems, and mobile systems will be covered by this rule. This rule will also update existing GSAR provision 552.239-70, Information Technology Security Plan and Security Authorization, and GSAR clause 552.239-71, Security Requirements for Unclassified Information Technology Resources, to only require the provision and clause when the contract will involve information or information systems connected to a GSA network.

Timetable:

Action | Date | FR Cite
NPRM | 07/00/21 |
NPRM Comment Period End | 09/00/21 |

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AJ84

211. General Services Acquisition Regulation (GSAR); GSAR Case 2019-G503, Streamlining GSA Commercial Contract Clause Requirements

Legal Authority: 40 U.S.C. 121(c)

Abstract: The General Services Administration (GSA) is proposing to amend the General Services Administration Acquisition Regulation (GSAR) to streamline requirements for GSA commercial contracts. This rule will update GSAR Clauses 552.212-71 and 552.212-72 to remove any requirements that are not necessary by law or Executive Order.

Timetable:

Action | Date | FR Cite
NPRM | 09/00/21 |
NPRM Comment Period End | 11/00/21 |

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AK09

212. General Services Acquisition Regulation (GSAR); GSAR Case 2020-G502, Increasing Order Level Competition for Federal Supply Schedules

Legal Authority: 40 U.S.C. 121(c); Pub. L. 115-232 sec. 876

Abstract: The General Services Administration (GSA) is proposing to amend the General Services Administration Acquisition Regulation (GSAR) to implement section 876 of the National Defense Authorization Act (NDAA) for Fiscal Year (FY) 2019 (Pub. L. 115-232) as it relates to Federal Supply Schedule contracts. Section 876 amended 41 U.S.C. 3306(c) by providing an exception to the requirement to consider price as an evaluation factor for the award of certain indefinite-delivery, indefinite-quantity contracts and Federal Supply Schedule contracts. A separate case, GSAR Case 2020-G503, will address the implementation of Section 876 in relation to other indefinite-delivery, indefinite-quantity contracts.

Timetable:

Action | Date | FR Cite
ANPRM | 08/19/20 | 85 FR 50989
ANPRM Comment Period End | 09/18/20 |
NPRM | 09/00/21 |
NPRM Comment Period End | 11/00/21 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK15

213. General Service Acquisition Regulation (GSAR); GSAR Case 2020-G503, Increasing Order Level Competition for Indefinite-Delivery, Indefinite-Quantity Contracts

Legal Authority: 40 U.S.C. 121(c); Pub. L. 115-232, sec. 876

Abstract: The General Services Administration (GSA) is proposing to amend the General Services Administration Acquisition Regulation (GSAR) to implement Section 876 of the National Defense Authorization Act (NDAA) for Fiscal Year (FY) 2019 (Pub. L. 115-232) as it relates to certain indefinite-delivery, indefinite-quantity contracts. Section 876 amended 41 U.S.C. 3306(c) by providing an exception to the requirement to consider price as an evaluation factor for the award of certain indefinite-delivery, indefinite-quantity contracts and Federal Supply Schedule contracts. A separate case, GSAR Case 2020-G502, will address the implementation of Section 876 in relation to Federal Supply Schedule contracts.

Timetable:

Action | Date | FR Cite
NPRM | 09/00/21 |
NPRM Comment Period End | 11/00/21 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK16

214. General Service Acquisition Regulation (GSAR); GSAR Case 2020-G504, Federal Supply Schedule Catalog Management

Legal Authority: 40 U.S.C. 121(c)

Abstract: The General Services Administration (GSA) is proposing to amend the General Services Administration Acquisition Regulation (GSAR) to consolidate all terms related to Federal Supply Schedule catalog management, which are currently spread across multiple clauses, into one consolidated clause.

Timetable:

Action | Date | FR Cite
NPRM | 06/00/21 |
NPRM Comment Period End | 08/00/21 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK17

215. General Service Acquisition Regulation (GSAR); GSAR Case 2020-G505, Clarify Commercial Products and Services Contract Terms and Conditions

Legal Authority: 40 U.S.C. 121(c)

Abstract: The General Services Administration (GSA) is proposing to amend the General Services Acquisition Regulation (GSAR) to clarify commercial products and services contract terms and conditions. This rule will update GSAR Clause 552.212-4 to clarify the prescription and language applicable for the different clause alternates.

Timetable:

Action | Date | FR Cite
NPRM | 08/00/21 |
NPRM Comment Period End | 10/00/21 |

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AK18

216. General Service Acquisition Regulation (GSAR); GSAR Case 2020-G509, Extending Federal Supply Schedule Orders Beyond the Contract Term

Legal Authority: 40 U.S.C. 121(c)

Abstract: The General Services Administration (GSA) is proposing to amend the General Services Administration Acquisition Regulation (GSAR) to clarify, update, and incorporate existing Federal Supply Schedule (FSS) program policies and procedures regarding performance of orders beyond the term of the base FSS contract. Specifically, the local FSS program policy titled I-FSS-163 Option to Extend the Term of the Contract (Evergreen) will be incorporated.

Timetable:

Action | Date | FR Cite
NPRM | 06/00/21 |
NPRM Comment Period End | 08/00/21 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK19

217. General Service Acquisition Regulation (GSAR); GSAR Case 2020-G510, Federal Supply Schedule Economic Price Adjustment

Legal Authority: 40 U.S.C. 121(c)

Abstract: The General Services Administration (GSA) is proposing to amend the General Services Administration Acquisition Regulation (GSAR) to clarify, update, and incorporate Federal Supply Schedule (FSS) program policies and procedures regarding economic price adjustment. This rule will update GSAR Clause 552.216-70 to incorporate the clause alternates in GSA's existing class deviation CD-2019-14.

Timetable:

Action | Date | FR Cite
NPRM | 09/00/21 |
NPRM Comment Period End | 11/00/21 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK20

218. General Service Acquisition Regulation (GSAR); GSAR Case 2020-G511, Updated Guidance for Non-Federal Entities Access to Federal Supply Schedules

Legal Authority: 40 U.S.C. 121(c); 40 U.S.C. 502

Abstract: The General Services Administration (GSA) is proposing to amend the General Services Administration Acquisition Regulation (GSAR) to streamline and clarify the requirements for use of Federal Supply Schedules by eligible Non-Federal Entities, such as state and local governments. Eligible Non-Federal Entities are able to use Federal Supply Schedules based on authority from various laws, including 40 U.S.C. 502(c).

Timetable:

Action | Date | FR Cite
NPRM | 09/00/21 |
NPRM Comment Period End | 11/00/21 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK21

219. General Service Acquisition Regulation (GSAR); GSAR Case 2020-G512, System for Award Management Representation for Leases

Legal Authority: 40 U.S.C. 121(c)

Abstract: The General Services Administration (GSA) is proposing to amend the General Services Administration Acquisition Regulation (GSAR) to remove the requirement for lease offerors for non-high-security space to have an active System for Award Management (SAM) registration when submitting offers and instead allow offers up until the time of award to obtain an active SAM registration. Entities seeking Federal leases differ from the typical entities seeking Federal contracts in that common practice is to form a new entity for every new lease offer. Requiring representations from these entities prior to offer submission restricts competition.

Timetable:

Action | Date | FR Cite
NPRM | 11/00/21 |
NPRM Comment Period End | 01/00/22 |

Regulatory Flexibility Analysis Required: Yes.

Agency Contact: Marten Wallace, Procurement Analyst, GSA Acquisition Policy Division, General Services Administration, 1800 F Street NW, Washington, DC 20405, Phone: 202 969-7736, Email: marten.wallace@gsa.gov.

RIN: 3090-AK22

220. General Service Acquisition Regulation (GSAR); GSAR Case 2020-G513, Lease Payment Procedures

Legal Authority: 40 U.S.C. 121(c)

Abstract: The General Services Administration (GSA) is proposing to amend the General Services Administration Acquisition Regulation (GSAR) to establish a new clause to allow for a pass-through of taxes under payments for lease construction. The real estate tax base for a newly built or renovated building is uncertain until a tax assessment is completed, which can be a year or more after occupancy in some jurisdictions. Removing the tax base from the shell rent of a lease and providing a pass-through of the real estate taxes in lieu of a real estate tax adjustment over a base during the term of the lease will remove an element of risk from the pricing of rent, will result in greater competition, and will lower rental rates.

Timetable:

Action | Date | FR Cite
NPRM | 12/00/21 |
NPRM Comment Period End | 02/00/22 |

Regulatory Flexibility Analysis Required: Yes.

Agency Contact: Marten Wallace, Procurement Analyst, GSA Acquisition Policy Division, General Services Administration, 1800 F Street NW, Washington, DC 20405, Phone: 202 969-7736, Email: marten.wallace@gsa.gov.

RIN: 3090-AK23

221. General Service Acquisition Regulation (GSAR); GSAR Case 2020-G534, Extension of Certain Telecommunication Prohibitions to Lease Acquisitions

Legal Authority: 40 U.S.C. 121(c); 5 U.S.C. 801; Pub. L. 115-232 sec. 889

Abstract: The General Services Administration (GSA) is proposing to amend the General Services Administration Acquisition Regulation (GSAR) to extend the requirements of section 889 of the National Defense Authorization Act (NDAA) for Fiscal Year (FY) 2019 (Pub. L. 115-232) to lease acquisitions by requiring inclusion of the related Federal Acquisition Regulation (FAR) provisions and clause. Generally, the FAR does not apply to leasehold acquisitions of real property. However, several FAR provisions have been adopted based on statutory requirements through GSAR part 570. Section 889 applies to Government lease acquisitions and extension of the FAR requirements will ensure compliance.

Timetable:

Action | Date | FR Cite
NPRM | 07/00/21 |
NPRM Comment Period End | 09/00/21 |

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK29

222. • General Services Acquisition Regulation (GSAR); GSAR Case 2021-G505, Amending Prescriptions for Including Far Provisions and Clauses in Lease Procurements

Legal Authority: 40 U.S.C. 121(c)

Abstract: The General Services Administration (GSA) is proposing to amend the General Services Administration Acquisition Regulation (GSAR) to revise the prescriptions for FAR provisions and clauses that apply to lease solicitations and contracts. Additionally, GSA is proposing to make conforming changes to some provision and clause titles and numbers listed to align with the FAR, along with other editorial changes.

Timetable:

Action | Date | FR Cite
NPRM | 08/00/21 |
NPRM Comment Period End | 10/00/21 |

Regulatory Flexibility Analysis Required: Yes.

Agency Contact: Christina Mullins, Director, GSA Acquisition Policy Division, General Services Administration, 1800 F Street NW, Washington, DC 20405, Phone: 202 969-4066, Email: christina.mullins@gsa.gov.

RIN: 3090-AK36

223. • General Services Acquisition Regulation (GSAR); GSAR Case 2021-G522, Contract Requirements for High-Security Leased Space

Legal Authority: 40 U.S.C. 121(c); Pub. L. 116-276

Abstract: The General Services Administration (GSA) is proposing to amend the General Services Administration Acquisition Regulation (GSAR) to incorporate contractor disclosure requirements and access limitations for high-security leased space pursuant to the Secure Federal Leases Act (Pub. L. 116-276). Covered entities are required to identify whether the immediate, highest-level, or beneficial owner of a high-security leased space, including an entity involved in the financing thereof, is a foreign person or entity when first submitting a proposal and annually thereafter.

Timetable:

Action | Date | FR Cite
NPRM | 09/00/21 |
NPRM Comment Period End | 11/00/21 |

Regulatory Flexibility Analysis Required: Yes.

Agency Contact: Marten Wallace, Procurement Analyst, GSA Acquisition Policy Division, General Services Administration, 1800 F Street NW, Washington, DC 20405, Phone: 202 969-7736, Email: marten.wallace@gsa.gov.

RIN: 3090-AK39

GENERAL SERVICES ADMINISTRATION (GSA)

Completed Actions

224. General Service Acquisition Regulation (GSAR); GSAR Case 2020-G517, Contracting Exemption for Regulated Utilities

Legal Authority: 40 U.S.C. 121(c)

Abstract: The General Services Administration (GSA) is withdrawing this case because it has been determined the changes required are non-regulatory, internally focused guidance.

Completed:

Action | Date | FR Cite
Withdrawn | 02/24/21 |

Regulatory Flexibility Analysis Required: Yes.

Agency Contact: Clarence Harrison, Phone: 202 227-7051, Email: clarence.harrison@gsa.gov.

RIN: 3090-AK24

[FR Doc. 2021-14883 Filed 7-29-21; 8:45 am]

BILLING CODE 6820-34-P